DEPARTMENT OF JUSTICE

Notice of Lodging of a Consent Decree Under the Clean Water Act

Notice is hereby given that on December 13, 2010, a proposed Consent Decree (“Decree”) in United States and the State of Georgia v. DeKalb County, Georgia, Civil Action No. 1:10cv4039-WSD, was lodged with the United States District Court for the Northern District of Georgia, Atlanta Division.

The proposed Consent Decree would resolve claims against DeKalb County for the Clean Water Act violations involving its sanitary sewer system, alleged in the complaint filed by the United States and the State of Georgia. The proposed Consent Decree provides for DeKalb County to perform injunctive measures as described in the Consent Decree, to pay a civil penalty of $226,500 to the United States and $226,500 to the State of Georgia, and to perform a Supplemental Environmental Project valued at $600,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States and State of Georgia v. DeKalb County, Georgia, Civil Action No. 1:10-cv-4039-WSD, D.J. Ref. 90-5-1-1-09497.

The Consent Decree may be examined at the Office of the United States Attorney for the Northern District of Georgia, Richard B. Russell Federal Building, Suite 600, 75 Spring Street, SW., Atlanta, GA 30303, and at the Region 4 Office of the Environmental Protection Agency, Atlanta Federal Center, 61 Forsyth Street, SW., Atlanta, GA 30303. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Consent Decree from the Consent Decree Library, please enclose a check in the amount of $27.75 (25 cents per page reproduction cost) payable to the U.S. Treasury or, if by e-mail or fax, forward a check in that amount to the Consent Decree Library at the stated address.

Maureen Katz,
Assistant Chief, Environmental Enforcement Section, Environment and Natural Resources Division.

[FR Doc. 2010-31802 Filed 12-17-10; 8:45 am]

BILLING CODE 4410-15-P